DEPARTMENT OF DEFENSE

Office of the Secretary

[Transmittal Nos. 14-42]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-42 with attached transmittal, policy justification, and Sensitivity of Technology.

Dated: October 3, 2014.
Aaron Siegel,
Alternate OSD Federal Register Liaison Officer, Department of Defense.

BILLING CODE 5001-06-P

BILLING CODE 5001-06-C

Transmittal No. 14-42

Notice of Proposed Issuance of Letter of Offer Pursuant to Section 36(b)(1) of the Arms Export Control Act, as amended

(i) Prospective Purchaser: United Arab Emirates (UAE)

(ii) Total Estimated Value:

Major Defense Equipment * | $400 million
Other | $500 million
Total | $900 million
* as defined in Section 47(6) of the Arms Export Control Act.

(iii) Description and Quantity or Quantities of Articles or Services under Consideration for Purchase:

12 High Mobility Artillery Rocket Systems (HIMARS) Launchers

100 M57 Army Tactical Missile System (ATACMS) T2K (Block IA Unitary), Rockets

65 M31A1 Guided Multiple Launch Rocket (GMLRS) Unitary Pods

Also included are 12 High Mobility Artillery Rocket System Resupply Vehicles M1084A1P2; 2 Wreckers, 5 Ton, M1089A1P2, with Long Term Armor Strategy (LTAS) Cab and B-Kit Armor; 90 Low Cost Reduced-Range Practice Rocket (RRPR) pods; support equipment; communications equipment; spare and repair parts; test sets; batteries; laptop computers; publications and technical data; facility design; personnel training and equipment; systems integration support; a Quality Assurance Team and a Technical Assistance Fielding Team support; United States Government and contractor engineering and logistics personnel services; and other related elements of logistics support.

(iv) Military Department: Army (ZVE and ZVD)

(v) Prior Related Cases, if any: FMS Case ZUD—$595M—1 August 2007

(vi) Sales Commission, Fee, etc., Paid, Offered, or Agreed to be Paid: None

(vii) Sensitivity of Technology Contained in the Defense Article or Defense Services proposed to be sold: See attached annex

(viii) Date Report Delivered to Congress: 29 September 2014

POLICY JUSTIFICATION

UAE—High Mobility Artillery Rocket Systems (HIMARS) Launchers

The Government of the United Arab Emirates (UAE) has requested a possible sale of

12 High Mobility Artillery Rocket Systems (HIMARS) Launchers

100 M57 Army Tactical Missile System (ATACMS) T2K (Block IA Unitary) Rockets

65 M31A1 Guided Multiple Launch Rocket (GMLRS) Unitary Pods

Also included are 12 High Mobility Artillery Rocket System Resupply Vehicles M1084A1P2; 2 Wreckers, 5 Ton, M1089A1P2, with Long Term Armor Strategy (LTAS) Cab and B-Kit Armor; 90 Low Cost Reduced-Range Practice Rocket (RRPR) pods; support equipment; communications equipment; spare and repair parts; test sets; batteries; laptop computers; publications and technical data; personnel training and equipment; systems integration support; a Quality Assurance Team and a Technical Assistance Fielding Team support; United States Government and contractor engineering and logistics personnel services; and other related elements of logistics support. The estimated cost is $900 million.

This proposed sale will contribute to the foreign policy and national security of the U.S. by helping to improve the security of a friendly country that has been and continues to be an important force for political stability and economic progress in the Middle East.

The HIMARS will improve the UAE's capability to meet current and future threats and provide greater security for its critical infrastructure. This proposed sale will also enhance the UAE's interoperability with the U.S. and its allies, making it a more valuable partner in an increasingly important area of the world. The UAE will have no difficulty absorbing this equipment into its armed forces.

The proposed sale of this equipment and support will not alter the basic military balance in the region.

The principal contractor will be Lockheed Martin Missile and Fire Control in Dallas, Texas. There are no known offset agreements proposed in connection with this potential sale.

Implementation of this proposed sale will require the assignment of up to ten U.S. government or contractor representatives to travel to the UAE for a period of up to one year for equipment de-processing/fielding, system checkout and training.

There will be no adverse impact on U.S. defense readiness as a result of this proposed sale.

Transmittal No. 14-42

Notice of Proposed Issuance of Letter of Offer Pursuant to Section 36(b)(1) of the Arms Export Control Act, as amended

Annex

Item No. vii

(vii) Sensitivity of Technology:

1. High Mobility Artillery Rocket System (HIMARS) with the Universal Fire Control System (UFCS). HIMARS is a C-130 transportable, wheeled version of the Multiple Launch Rocket System (MLRS) launcher. Integrated on a 5-ton Family of Medium Tactical Vehicles (FMTV) truck chassis, it carries one launch pod containing six MLRS rockets or one ATACMS missile and is capable of firing all MLRS Family of Munitions (MFOM) rockets and missiles, to include Guided MLRS, ATACMS Unitary, and future variants. HIMARS operates with the same MLRS command, control, and communications, as well as the same size crew, as the M270A1 launcher. The HIMARS launcher has a Global Positioning System (GPS) Precise Positioning System (PPS), but can operate without it. The launcher has a maximum speed of 55 mph and a minimum cruising range of 300 miles. The UFCS provides the command and control interface, man-machine interface, weapon interface, launcher interface and embedded training. The UFCS enables the launcher to interoperate with compatible national fire direction systems to navigate to specific fire and reload points, compute the technical firing solution, and orient the Launcher Module (LM) on the target to deliver the weapon accurately and effectively. The UFCS is capable of firing all MFOM rockets and missiles. It includes Built-in-Test and capability to store critical mission parameters, as well as system configuration and maintenance information. The UFCS also provided position navigation and processing necessary to direct and maintain control of the launcher system to allow for accurate firing and loading of weapons. The HIMARS end item hardware is Unclassified.

2. M57 ATACMS Block 1A Unitary Rockets. The purpose of the M57 Missile is to provide Corps and Joint Task Force Commanders the capability to attack high-payoff, time sensitive targets when and where collateral damage, unexploded ordnance, or piloted aircraft risk may be of concern. Regardless of weather conditions, the M57 Missile can be employed against a variety of infrastructure, tactical, and, operational targets. The M57 ATACMS Block 1A (Unitary) rocket is a conventional, semi-ballistic missile which utilizes a 500-lb HE unitary warhead in place of the standard anti-personnel, anti-material (APAM) submunitions. The Block IA configuration has increased range and accuracy as compared to the Block I (70-300km for Block 1A vs. 25-165km for Block I) and maintains lethality due to a Global Positioning System (GPS) PPS aided guidance system. The M57 ATACMS Block 1A (Unitary) is the Full Material Release variant of ATACMS Unitary (formerly the M48 Quick Reaction Unitary), and has been upgraded to TACMS 2K (T2K) specifications (T2K includes redesigned components to compensate for obsolescence issues and brings down per-unit costs).

Components of the M57 ATACMS Block IA Unitary missile are considered highly resistant to reverse engineering, and the impact of loss or diversion of the end item hardware would have minimum adverse impact. However, technical data for production of the Ring Laser Gyroscope (RLG), or for production, procession, fabrication, and loading of the solid propellant rocket motor are potentially applicable to development and production of accurate, long-range missile delivery systems. In addition, the RLG and accelerometers would have applicability to aircraft, space, and submarine programs. Lithium battery technology has applicability in a number of areas such as smart munitions communication, etc.

The data table and mission critical data generator special applications software is classified Confidential. The Security Classification Guide's (SCG's) classification of performance data and information ranges from Unclassified to Secret. System accuracy, lethality, and effectiveness data are classified Secret. System response time and most trajectory data are classified Confidential. Range, reliability, and maintainability data are Unclassified. Countermeasures and counter-countermeasures are classified Secret.

3. M31A1 Guided Multiple Launch Rocket System (GMLRS) Unitary. GMLRS Unitary uses a Unitary High Explosive (HE) Warhead along with GPS PPS-aided IMU based guidance and control for ground-to-ground precision point targeting. GPS PPS is not required for GMLRS to meet its effectiveness threshold. Additionally, GMLRS Unitary uses an Electronic Safe and Arm Fuze (ESAF) along with a nose mounted proximity sensor to give enhanced effectiveness to the GMLRS Unitary rocket by providing tri-mode warhead functionality with point detonate, point detonate with programmable delay, or Height of Burst proximity function. Control of the rocket in flight is accomplished by fins (canards) located in the nose section. GMLRS Unitary M31A1A1 end-item is comprised of a Launch Pod Container (LPC) and six GMLRS Unitary Rockets. The LPC can be loaded in the M270A1, M142 HIMARS, or in the European M270 launcher. The LPC provides a protective environment for the GMLRS Unitary during shipment and storage, and serves as an expendable launch rail when the GMLRS Unitary Rocket is fired. The height, width, length, and other features of the LPC are exactly the same as for the MLRS rocket LPC. The LPC is a controlled breathing type container equipped with desiccant for humidity control. The forward and aft LPC covers are designed to fracture as the rocket egresses from the container. The GMLRS rocket utilizes technologies in the guidance and control subsystem and the rocket motor that appear on the Military Critical Technologies List. The most serious consequences of unauthorized disclosure of information concerning the guidance and control subsystem are the accelerated development of countermeasures and manufacturing capability by other nations. Components of the GMLRS system are considered highly resistant to reverse engineering and the impact of loss or diversion of the end item hardware would have minimum adverse impact. However, technical data for production of the RLG, or for production, processing, fabrication, and loading of the solid propellant rocket motor are directly applicable to the development and production of accurate, long-range rocket and missile systems. In addition, the RLG and accelerometers would have applicability to aircraft, space and submarine programs. Lithium battery technology has applicability in a number of areas such as smart munitions, communications, etc. Production technology for the GMLRS motor exceeds limits established in the Missile Technology Control Regime.

4. Missile Technology Control Regime (MTCR). The HIMARS and associated munitions are MTCR Category II controlled. The MTCR controlled items will be identified and reported as part of the MTCR process.

5. If a technologically advanced adversary were to obtain knowledge of the specific hardware and software elements, the information could be used to develop countermeasures which might reduce weapon system effectiveness or be used in the development of a system with similar or advanced capabilities.

6. A determination has been made that the recipient country can provide the same degree of protection for the sensitive technology being released as the U.S. Government. This sale is necessary in furtherance of the U.S. foreign policy and national security objectives outlined in the Policy Justification.

7. All defense articles and services listed in this transmittal have been authorized for release and export to the United Arab Emirates.

[FR Doc. 2014-24085 Filed 10-8-14; 8:45 am]

BILLING CODE 5001-06-P